DEPARTMENT OF DEFENSE

Office of the Secretary

Notice of Availability of Environmental Assessment for the Air Force Memorial

AGENCY: Washington Headquarters Services, DoD.

ACTION: Notice of availability.

SUMMARY: The Department of Defense (DoD) Washington Headquarters Services (WHS) announces that an Environmental Assessment (EA) for the Air Force Memorial is available for public review and comment within 30 days of the date of this publication. The Memorial is planned for the Naval Annex Site, Columbia Pike and Southgate Road, near the Pentagon in Arlington, VA. The Naval Annex is also known as the Navy Annex, Arlington Annex, and Federal Office Building No. 2 (FOB2).

The EA documents an evaluation of the environmental effects of the proposed Memorial in accord with the National Environmental Policy Act of 1969, as amended (NEPA, 42 U.S.C. 4321 to 4370b), Council of Environmental Quality (CEQ) implementing regulations (Title 40, Code of Federal Regulations parts 1500-1508), and DoD Instruction 4715.9, Environmental Planning and Analysis. The EA identifies the proposed action, purpose and need for the project, project alternatives, affected environment, environmental consequences, and proposed mitigation measures. Environmental consequences examined include potential impacts on socio-economic conditions, cultural and visual resources, transportation systems, physical and biological resources, utilities and infrastructure, and cumulative impact.

The Air Force Memorial Foundation (AFMF) proposes to establish the Air Force Memorial on three acres of the Naval Annex Site, as authorized by Congress, to honor the men and women who have served in the U.S. Air Force and its predecessors. The main element of the Memorial would be three curving vertical spires, from 200 to 270 feet high, that symbolize Air Force core values, people, and key mission ingredients. At the base of the spires, complementary elements would include an Honor Guard Sculpture, Contemplation Chamber, Air Force Members Chamber, seating area, pedestrian walkways, and parking area. The proposed action, as directed by Congress, requires demolition of Wing 8 of FOB2.

The EA is available on the Internet at http://www.dtic.mil/ref/Safety/index.htm and http://www.airforcememorial.org and in paper copy at the following libraries:

• Arlington County Central Library, 1015 N. Quincy Street, Arlington, VA 22201.

• Aurora Hills Library, 735 S. 18th St., Arlington, VA 22202.

• Columbia Pike Library, 816 S. Walter Reed Dr., Arlington, VA 22204.

• Shirlington Library, 2786 S. Arlington Mill Dr., Arlington, VA 22206.

For those with access or escort, copies are also available in the FOB2 Building Managers Office, Room 1030, and in the Pentagon Library Reference Center on the Pentagon Concourse.

DATES: Public comments are invited and must be either e-mailed or postmarked on or before May 5, 2003.

ADDRESSES: To request a copy of the EA or provide comments, contact Dr. Brian Higgins at telephone: 703-697-5066, e-mail: bhiggins@ref.whs.mil, or WHS Real Estate and Facilities Directorate, 1155 Defense Pentagon, Room 3B200, Washington, DC 20301-1155. Individuals also may download the EA from the Web sites

FOR FURTHER INFORMATION CONTACT: For additional information on the EA, contact Dr. Brian Higgins at telephone: 703-697-5066, or e-mail: bhiggins@ref.whs.mil.

Dated: March 27, 2003.
Patricia L. Toppings,
Alternate OSD Federal Register Liaison Officer, Department of Defense.

[FR Doc. 03-8015 Filed 4-2-03; 8:45 am]

BILLING CODE 5001-08-M